INTERNATIONAL TRADE COMMISSION

19 CFR Parts 201 and 210

Rules of General Application and Adjudication and Enforcement

AGENCY: International Trade Commission.

ACTION: Extension of time to comment on the proposed rulemaking.

SUMMARY: The United States International Trade Commission (“Commission”) proposed to amend its Rules of Practice and Procedure concerning rules of general application, adjudication, and enforcement and published a notice of its proposal on December 20, 2007. 72 FR 72280 (Dec. 20, 2007). The Commission required written comments to be filed by 5:15 p.m. within 60 days after publication of the notice of proposed rulemaking. Two entities have requested six week extensions of time to file their written comments. The Commission has determined to extend the deadline by six weeks.

DATES: To be assured of consideration, written comments must be received by 5:15 p.m. on March 31, 2008.

ADDRESSES: You may submit comments, identified by docket number MISC-022, by any of the following methods:

—Federal Rulemaking Portal: http://www.regulations.gov. Follow the instructions for submitting comments.

—Agency Web Site: http://www.usitc.gov. Follow the instructions for submitting comments on the Web site at http://www.usitc.gov/secretary/edis.htm.

—E-mail: james.worth@usitc.gov. Include docket number MISC-022 in the subject line of the message.

—Mail: For paper submission. U.S. International Trade Commission, 500 E Street, SW., Room 112, Washington, DC 20436.

—Hand Delivery/Courier: U.S. International Trade Commission, 500 E Street, SW., Room 112, Washington, DC 20436. From the hours of 8:45 a.m. to 5:15 p.m.

Instructions: All submissions received must include the agency name and docket number (MISC-022) or Regulatory Information Number (RIN) for this rulemaking. All comments received will be posted without change to http://www.usitc.gov, including any personal information provided. For paper copies, a signed original and 14 copies of each set of comments, along with a cover letter stating the nature of the commenter's interest in the proposed rulemaking, should be submitted to Marilyn R. Abbott, Secretary, U.S. International Trade Commission, 500 E Street, SW., Room 112, Washington, DC 20436.

Docket: For access to the docket to read background documents or comments received, go to http://www.usitc.gov and/or the U.S. International Trade Commission, 500 E Street, SW., Room 112, Washington, DC 20436.

FOR FURTHER INFORMATION CONTACT: James Worth, Office of the General Counsel, United States International Trade Commission, telephone 202-205-3065. Hearing-impaired individuals are advised that information on this matter can be obtained by contacting the Commission's TDD terminal at 202-205-1810. General information concerning the Commission may also be obtained by accessing its Internet server at http://www.usitc.gov.

SUPPLEMENTARY INFORMATION: The proposed amendments to the Rules of Practice and Procedure are necessary to make certain technical corrections, to clarify certain provisions, to harmonize different parts of the Commission's rules, and to address concerns that have arisen in Commission practice. The intended effect of the proposed amendments is to facilitate compliance with the Commission's Rules and improve the administration of agency proceedings. The Commission encourages members of the public to comment, in addition to any other comments they wish to make on the proposed amendments, on whether the proposed amendments are in language that is sufficiently clear for users to understand.

The Commission required written comments to be filed by 5:15 p.m. within 60 days after publication of the notice of proposed rulemaking. On January 25, 2008, Michael Doane, President of the ITC Trial Lawyers Association (“ITCTLA”), submitted a letter to the Commission requesting a six week extension of time for filing comments to the proposed amendments to the rules. On January 26, 2008, Michael Kirk, Executive Director of the American Intellectual Property Law Association, also submitted a letter to the Commission requesting a six week extension of time for filing comments to the proposed amendments to the rules. The Commission has determined to extend the deadline by six weeks to March 31, 2008.

If the Commission decides to proceed with this rulemaking after reviewing the comments filed in response to this notice, the proposed rule revisions will be promulgated in accordance with the Administrative Procedure Act (5 U.S.C. 553), and will be codified in 19 CFR parts 201 and 210.

Background

Section 335 of the Tariff Act of 1930 (19 U.S.C. 1335) authorizes the Commission to adopt such reasonable procedures, rules, and regulations as it deems necessary to carry out its functions and duties. This rulemaking seeks to update certain outdated provisions and improve other provisions of the Commission's existing Rules of Practice and Procedure. The Commission proposes amendments to its rules covering investigations under section 337 of the Tariff Act of 1930 (19 U.S.C. 1337) in order to increase the efficiency of its section 337 investigations. This rulemaking effort began in 2003 when the ITCTLA submitted a report to the Commission which suggested several rule changes that it believed would make the Commission rules more effective. In the course of considering the ITCTLA proposals, the Office of the General Counsel and the Office of Unfair Import Investigations also suggested various rule changes. The Commission invites the public to comment on all of these proposed rules amendments. In any comments, please consider addressing whether the proposed amendments are in language that is clear and easy to understand. In addition, in any comments, please consider addressing how the proposed rules amendments could be improved, and/or offering specific constructive alternatives where appropriate.

Consistent with its ordinary practice, the Commission issued these proposed amendments in accordance with the rulemaking procedure in section 553 of the APA. This procedure entails the following steps: (1) Publication of a notice of proposed rulemaking; (2) solicitation of public comments on the proposed amendments; (3) Commission review of public comments on the proposed amendments; and (4) publication of final amendments at least thirty days prior to their effective date.

By order of the Commission.
Issued: February 12, 2008.
Marilyn R. Abbott,
Secretary to the Commission.

[FR Doc. E8-2871 Filed 2-14-08; 8:45 am]

BILLING CODE 7020-02-P